DEPARTMENT OF DEFENSE

Office of the Secretary

[Transmittal Nos. 11-26]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 11-26 with attached transmittal, policy justification, and Sensitivity of Technology.

Dated: September 23, 2011.
Aaron Siegel,
Alternate OSD Federal Register Liaison Officer, Department of Defense.

BILLING CODE 5001-01-P

BILLING CODE 5001-06-C

Transmittal No. 11-26

Notice of Proposed Issuance of Letter of Offer Pursuant to Section 36(b)(1) of the Arms Export Control Act, as amended

(i) Prospective Purchaser: Qatar.

(ii) Total Estimated Value:

Major Defense Equipment * | $300 million
Other | 400 million
Total | 750 million
* As defined in Section 47(6) of the Arms Export Control Act.

(iii) Description and Quantity or Quantities of Articles or Services under Consideration for Purchase: 6 MH-60R SEAHAWK Multi-Mission Helicopters, 13 T-700 GE 401C Engines (12 installed and 1 spare), communication equipment, support equipment, spare and repair parts, tools and test equipment, technical data and publications, personnel training and training equipment, U.S. government and contractor engineering, technical, and logistics support services, and other related elements of logistics support.

(iv) Military Department: Navy (SAF).

(v) Prior Related Cases, if any: None.

(vi) Sales Commission, Fee, etc., Paid, Offered, or Agreed to be Paid: None.

(vii) Sensitivity of Technology Contained in the Defense Article or Defense Services Proposed to be Sold: See Annex attached.

(viii) Date Report Delivered to Congress: 21 Sep 2011.

Policy Justification

Qatar—MH-60R Multi-Mission Helicopters

The Government of Qatar has requested a possible sale of 6 MH-60R SEAHAWK Multi-Mission Helicopters, 13 T-700 GE 401C Engines (12 installed and 1 spare), communication equipment, support equipment, spare and repair parts, tools and test equipment, technical data and publications, personnel training and training equipment, U.S. government and contractor engineering, technical, and logistics support services, and other related elements of logistics support. The estimated cost is $750 million.

This proposed sale will contribute to the foreign policy and national security of the United States by helping to improve the security of a friendly country that has been, and continues to be, an important force for political and economic progress in the Middle East. Qatar is host to the US AFCENT forces and serves as a critical forward-deployed location in the region.

The proposed sale of the MH-60R SEAHAWK helicopters will improve Qatar's capability to meet current and future anti-surface warfare threats. Qatar will use the enhanced capability to strengthen its homeland defense. The MH-60R helicopters will supplement and eventually replace the Qatar Air Force's aging maritime patrol helicopters. Qatar will have no difficulty absorbing these helicopters into its armed forces.

The proposed sale of this equipment and support will not alter the basic military balance in the region.

The prime contractors will be Sikorsky Aircraft Corporation in Stratford, Connecticut, Lockheed Martin in Owego, New York, and General Electric in Lynn, Massachusetts. There are no known offset agreements proposed in connection with this potential sale.

Implementation of this proposed sale will require the assignment of ten contractor representatives to Qatar on an intermittent basis over the life of the case to support delivery of the MH-60R helicopters and provide support and equipment familiarization.

There will be no adverse impact on U.S. defense readiness as a result of this proposed sale.

Transmittal No. 11-26

Notice of Proposed Issuance of Letter of Offer Pursuant to Section 36(b)(1) of the Arms Export Control Act

Annex

Item No. vii

(vii) Sensitivity of Technology:

1. The MH-60R SEAHAWK Multi-Mission Helicopter contains new generation technology. It is equipped for a range of missions including Anti-Surface Warfare (ASuW), Search and Rescue, Naval Gun Fire Support, Surveillance, Communications Relay, Logistics Support, Personnel Transfer, and Vertical Replenishment. The fully integrated glass cockpit is equipped with four 8 inch by 10 inch full color multi-function mission and flight displays that are night vision goggle compatible and sun light readable. The pilots and aircrew have common programmable keysets, mass memory unit, mission and flight management computers, and MH-60R dedicated operational software. The navigation suite includes the LN-100G inertial navigation system with embedded global positioning system (GPS). The helicopter is equipped with mission systems including the APS-153 Multi-Mode Radar, the AN/ALQ-210 Electronic Support Measures System (ESM), and the AN/AAS-44 Multi-Spectral Targeting Forward Looking Infrared (MTS FLIR) system. Self Protection systems include the AN/AAR-47 Missile Warning Set, AN/ALQ-144A IR Counter Measure System (IRCM), and the AN/ALE-47chaff and flare decoy dispenser.

2. If a technologically advanced adversary were to obtain knowledge of the specific hardware and software elements, the information could be used to develop countermeasures which might reduce weapon system effectiveness or be used in the development of a system with similar or advanced capabilities.

[FR Doc. 2011-25018 Filed 9-28-11; 8:45 am]

BILLING CODE 5001-06-P